DEPARTMENT OF ENERGY

Federal Energy Regulatory Commission

[Docket No. CP03-317-000]

Gulf South Pipeline Company LP; Notice of Application

June 17, 2003.

On June 6, 2003, Gulf South Pipeline Company LP (Gulf South), 20 East Greenway, Houston, Texas 77046, filed an application pursuant to Section 7(c) of the Natural Gas Act (NGA), as amended, and the Federal Energy Regulatory Commission's (Commission) Rules and Regulations, for authorization to construct, own and operate two horizontal replacement injection/withdrawal wells in the Bistineau Storage Facility, located in Bienville Parish, Louisiana, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Gulf South proposes to construct, own and operate two new horizontal injection/withdrawal wells, approximately 440 feet of associated 8-inch diameter gathering lines and appurtenant facilities. Gulf South states these wells will be operated within Gulf South's current certificated limits, and will not exceed its certificated storage capacity or deliverability.

Any questions concerning this application may be directed J. Kyle Stephens, Director of Certificates, Gulf South Pipeline Company, LP, 20 East Greenway Plaza, Houston, Texas 77046, phone (713) 544-7309, fax (713) 544-4818, email: kyle.stephens@gulfsouthpl.com.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. If filng by paper, a party must submit 14 copies of filings made with the Commission and must mail a copy to the applicant and to every other party in the proceeding. Only parties to the proceeding can ask for court review of Commission orders in the proceeding. Protests and interventions may be filed electronically via the Internet in lieu of paper; see 18 CFR 385.2001(a)(1)(iii) and the instructions on the Commission's Web site under the “e-Filing” link. The Commission strongly encourages electronic filings.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comment Date: July 8, 2003.

Linda Mitry,
Acting Secretary.

[FR Doc. 03-15839 Filed 6-23-03; 8:45 am]

BILLING CODE 6717-01-P